DEPARTMENT OF COMMERCE

Foreign-Trade Zones Board

[B-2-2016]

Notification of Proposed Production Activity; GE Generators (Pensacola) L.L.C.; Subzone 249A (Wind Turbine Nacelles and Hubs); Pensacola, Florida

GE Generators (Pensacola) L.L.C. (GE Generators), operator of Subzone 249A, submitted a notification of proposed production activity to the FTZ Board, for its facility located in Pensacola, Florida. The notification conforming to the requirements of the regulations of the FTZ Board (15 CFR 400.22) was received on January 8, 2016.

GE Generators already has authority to produce wind turbines and related blades within Subzone 249A. The current request would add finished products (nacelle assemblies and hubs) and foreign-status components to the scope of authority. Pursuant to 15 CFR 400.14(b), FTZ activity would be limited to the specific foreign-status components and specific finished products described in the submitted notification (as described below) and subsequently authorized by the FTZ Board.

Production under FTZ procedures could exempt GE Generators from customs duty payments on the foreign status components used in export production. On its domestic sales, GE Generators would be able to choose the duty rates during customs entry procedures that apply to nacelle assemblies and hubs (duty rates—free, 2.5%) for the foreign-status inputs noted below and in the existing scope of authority. Customs duties also could possibly be deferred or reduced on foreign status production equipment.

The components sourced from abroad include: Pitch bearings; hub castings; pitch cabinets; pitch drives; gearboxes; main shafts; yaw drives; bed plates; yaw bearings; top boxes; main bearings; pillow blocks; generator frames; flex couplings; gearbox coolers; gearbox isolation pedestals; pillow block housing covers; generator frames and legs; blade root spacers; and, elastomeric gearbox mounts (duty rate ranges from free to 5.8%).

Public comment is invited from interested parties. Submissions shall be addressed to the FTZ Board's Executive Secretary at the address below. The closing period for their receipt is March 2, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: January 15, 2016.
Andrew McGilvray,
Executive Secretary.

[FR Doc. 2016-01294 Filed 1-21-16; 8:45 am]

BILLING CODE 3510-DS-P